DEPARTMENT OF VETERANS AFFAIRS

Advisory Committee on Minority Veterans, Notice of Meeting

The Department of Veterans Affairs (VA) gives notice under the Federal Advisory Committee Act, Public Law 92-463, that a meeting of the Advisory Committee on Minority Veterans will be held from Monday, March 25, 2002, through Wednesday, March 27, 2002, from 8:30 a.m. until 5 p.m. each day, at the VA Regional Office, 1120 Vermont Avenue, NW., Room 1001A, Washington, DC.

The purpose of the Committee is to advise the Secretary on the administration of VA benefits and services to minority veterans; to assess the needs of minority veterans and to evaluate whether VA compensation, medical and rehabilitation services, outreach, and other programs are meeting those needs. The Committee will make recommendations to the Secretary regarding such activities.

On March 25, the Committee will meet with the Secretary to receive his charge, and will receive an ethics briefing from the Office of General Counsel. The Committee will examine the results of the Secretary's VA Claims Processing Task Force, and will be briefed by the Task Force's Executive Secretary. They will also be briefed by the Acting Under Secretary for Benefits on adjudication reform and plans to implement Task Force's recommendations. The Committee will conduct subcommittee-working sessions in the afternoon.

On Tuesday, March 26, the Committee will focus on minority business access to government contracting and problems experienced by minority veteran-owned businesses. The President and Chief Executive Officer of the Veterans Entrepreneurial Corporation will address the Committee about the Corporation's progress and its impact on minority businesses. The Committee will meet with the Deputy Secretary in the afternoon.

On Wednesday, March 27, the Committee will be briefed about VA Readjustment Counseling services located on Indian Reservations. The topic of dust induced lung disease associated with Navy deck grinding will be discussed, and the Committee will begin drafting its annual report for fiscal year 2002.

These sessions will be open to the public. No time will be allocated for receiving oral presentations from the public. However, the Committee will accept written comments from interested parties on issues on the meeting agenda and other issues affecting minority veterans. Such comments should be referred to the Committee at the following address: Advisory Committee on Minority Veterans, Center for Minority Veterans (00M), U.S. Department of Veterans Affairs, 810 Vermont Avenue, NW., Washington, DC 20420.

Dated: March 11, 2002.
By Direction of the Secretary:
Nora E. Egan,
Committee Management Officer.

[FR Doc. 02-6325 Filed 3-15-02; 8:45 am]

BILLING CODE 8320-01-M